DEPARTMENT OF COMMERCE

National Oceanic and Atmospheric Administration

[I.D. 062300A]

National Plan of Action for the Conservation and Management of Sharks

AGENCY: National Marine Fisheries Service (NMFS), National Oceanic and Atmospheric Administration (NOAA), Commerce.

ACTION: Notice of availability of draft plan.

SUMMARY: NMFS announces the availability of a draft National Plan of Action (NPOA) developed pursuant to the endorsement of the International Plan of Action (IPOA) for the Conservation and Management of Sharks by the United Nations' Food and Agriculture Organization Committee on Fisheries (COFI) Ministerial Meeting in February 1999. NMFS has prepared this draft plan based on consultation with scientific and technical experts and certain Federal and state agencies. Members of the public are encouraged to provide comments on the draft NPOA.

DATES: Comments must be received no later than September 30, 2000.

ADDRESSES: Written comments and requests for copies of the draft NPOA should be sent to Margo Schulze-Haugen, Highly Migratory Species Management Division (F/SF1), National Marine Fisheries Service (NMFS), 1315 East-West Highway, Silver Spring, MD 20910, or may be sent via facsimile (fax) to 301-713-1917. Comments will not be accepted if submitted via e-mail or internet.

FOR FURTHER INFORMATION CONTACT: Margo Schulze-Haugen or Karyl Brewster-Geisz, (301) 713-2347; fax (301) 713-1917.

SUPPLEMENTARY INFORMATION: Noting the increased concern about the expanding catches of sharks and their potential negative impacts on shark populations, the IPOA calls on member nations to voluntarily develop national plans to ensure the conservation and management of sharks for their long-term sustainable use by applying the precautionary approach. Member nations are encouraged to develop and implement an NPOA if their vessels conduct directed fisheries for sharks or if their vessels regularly catch sharks incidentally in fisheries for other species. Specifically, the IPOA calls on member nations to ensure that shark catches from directed and incidental fisheries are sustainable; assess threats to shark populations; protect critical habitats; provide special attention to vulnerable or threatened shark stocks; minimize unutilized incidental catches of sharks; encourage full use of dead sharks; improve species-specific catch and landings data and monitoring of shark catches; and consult with stakeholders in research, management, and educational initiatives within and between member nations. The United States has committed to developing this national plan, and reporting on its implementation to COFI, no later than the 25th COFI session in February 2001.

A proposed schedule, outline, background, and rationale were published in the Federal Register on September 30, 1999 (64 FR 52772). A revised schedule was published in the Federal Register on March 27, 2000 (65 FR 16186).

Authority: 16 U.S.C. 971 et seq. and 1801 et seq.

Dated: July 31, 2000.
Bruce C. Morehead,
Acting Director, Office of Sustainable Fisheries, National Marine Fisheries Service.

[FR Doc. 00-19846 Filed 8-3-00; 8:45 am]

BILLING CODE 3510-22-F